NUCLEAR REGULATORY COMMISSION

[Docket Nos. 50-220 and 50-410]

Constellation Energy Group; Notice of Acceptance for Docketing of the Application and Notice of Opportunity for Hearing Regarding Renewal of Facility Operating License Nos. DPR-63 and NPF-69; Correction

AGENCY: Nuclear Regulatory Commission.

ACTION: Individual notice; correction.

SUMMARY: This document corrects a notice appearing in the Federal Register on July 21, 2004 (69 FR 43633), that contained an incorrect Name of Attorney for the Applicant. This action is necessary to correct the Name of Attorney for the Applicant.

FOR FURTHER INFORMATION CONTACT: Tommy Le, Project Manager, Office of Nuclear Reactor Regulation, U.S. Nuclear Regulatory Commission, Washington, DC 20555-0001; telephone (301) 415-1458, e-mail: nbl@nrc.gov.

SUPPLEMENTARY INFORMATION: On page 43633, in the first column, in the first paragraph, twenty-first line, the text should be corrected from “[Attorney for the Applicant: David R. Lewis, Esq., Shaw Pittman, 2300 N Street, NW. Washington, DC 20037]” to read “[Attorney for the Applicant: Kathryn M. Sutton, Esq., Winston & Strawn, 1400 L Street, NW., Washington, DC 20005-3502]”

Dated in Rockville, Maryland, this 28th day of July, 2004.
For the Nuclear Regulatory Commission.
Samson S. Lee,
Acting Program Director, License Renewal and Environmental Impacts Program Division of Regulatory Improvement Programs, Office of Nuclear Reactor Regulation.

[FR Doc. 04-17708 Filed 8-3-04; 8:45 am]

BILLING CODE 7590-01-P